FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 012293-008.

Agreement Name: Maersk/MSC Vessel Sharing Agreement.

Parties: Maersk A/S and MSC Mediterranean Shipping Company S.A.

Filing Party: Wayne Rohde; Cozen O'Connor.

Synopsis: The amendment revises Article 5.1(a) to update the number of vessels operated by the parties in the U.S. trades and to increase the maximum number of vessels the parties are authorized to operate under the Agreement. The parties request expedited review.

Proposed Effective Date: 9/26/2020.

Location: https://www2.fmc.gov/FMC.Agreements.Web/Public/AgreementHistory/153.

Dated: August 14, 2020.
Rachel E. Dickon,
Secretary.

[FR Doc. 2020-18159 Filed 8-18-20; 8:45 am]

BILLING CODE 6730-02-P